FEDERAL COMMUNICATIONS COMMISSION

47 CFR Parts 1, 2, 27, 87, 90 and 95

[WT Docket No. 02-08; FCC 02-152]

License Services in the 216-220 MHz, 1390-1395 MHz, 1427-1429 MHz, 1429-1432 MHz, 1432-1435 MHz, 1670-1675 MHz, and 2385-2390 MHz Government Transfer Bands

AGENCY: Federal Communications Commission.

ACTION: Final rule; correction.

SUMMARY: The Federal Communications Commission published a document in the Federal Register on June 20, 2002, (67 FR 41847), revising the Quiet Zone procedures for operation near GOES stations. The publication incorrectly indicated that the GOES procedures were contained in § 1.924(f) and, therefore, inadvertently removed the Quiet Zone procedures for operation in the 420-450 MHz band. This document corrects the Quiet Zone procedures by re-inserting the procedures for operation in 420-450 MHz band into § 1.924(f) and lists the updated procedures for operation near GOES stations into § 1.924(g).

DATES: Effective November 29, 2002.

FOR FURTHER INFORMATION CONTACT: Keith Fickner regarding legal matters, and/or Brian Marenco or Tim Maguire regarding engineering matters via phone at (202) 418-0680, via TTY (202) 418-7233, or via e-mail at kfickner@fcc.gov, bmarenco@fcc.gov or tmaguire@fcc.gov, respectively, Wireless Telecommunications Bureau, Federal Communications Commission, Washington, DC 20554.

SUPPLEMENTARY INFORMATION: In the FR Doc. 02-15373 published in the Federal Register on June 20, 2002, (67 FR 41847) the Commission updated the Quiet Zone procedures for operation near GOES stations. The document incorrectly indicated that the GOES procedures were contained in § 1.924(f). The GOES procedures are supposed to be listed in § 1.924(g). The Quiet Zone procedures listed in § 1.924(f) are intended for operation in the 420-450 MHz band. Therefore, the Federal Register publication inadvertently deleted the Quiet Zone procedures for operation in the 420-450 MHz band. The Quiet Zone procedures for operations near GOES stations are intended to apply only to operation in the 1670-1675 MHz band.

Therefore, the Quiet Zone procedures for operation in the 420-450 MHz band should be re-inserted into § 1.924(f) and the updated GOES procedures should be listed in § 1.924(g).

Federal Communications Commission.
Marlene H. Dortch,
Secretary.

Rules Changes

For the reasons discussed in the preamble, the Federal Communications Commission corrects 47 CFR part 1 as follows:

PART 1—PRACTICE AND PROCEDURES

1. The authority citation for part 90 continues to read as follows:

Authority: 47 U.S.C. 151, 154(i), 154(j), 155, 225, 303(r), 309 and 325(e).

2. Section 1.924 is amended by correctly designating paragraph (f) as paragraph (g) and by reinstating the former text of paragraph (f) to read as follows:

§ 1.924 Quiet zones.

* * * * *

(f) 420-450 MHz band. (1) In the band 420-450 MHz, applicants should not expect to be accommodated if their area of service is within 160 kilometers (100 miles) of the following locations:

(i) 45°45′00.2″ N., 70°31′58.3″ W.,

(ii) 64°17′00.0″ N., 149°10′00.0″ W.,

Note to: Paragraph(f)(ii) is referenced to NAD27.

(iii) 48°43′00.0″ N., 97°54′01.4″ W.;

(2) Within 200 kilometers (124 miles) of the following locations:

(i) 32°38′00.5″ N., 83°34′59.7″ W.,

(ii) 31°25′00.6″ N., 100°24′01.3″ W.;

(3) Within 240 kilometers (150 miles) of the following location:

(i) 39°07′59.6″ N., 121°26′03.9″ W.;

(ii) [Reserved]

(4) Within 320 kilometers (200 miles) of the following locations:

(i) 28°21′01.0″ N., 80°42′59.2″ W.,

(ii) 30°30′00.7″ N., 86°29′59.8″ W.,

(iii) 43°08′59.6″ N., 119°11′03.8″ W.;

(5) Or in the following locations:

(i) The state of Arizona,

(ii) The state of Florida,

(iii) Portions of California and Nevada south of 37°10′ N.,

(iv) And portions of Texas and New Mexico bounded by 31°45′ N., 34°30′ N., 104°00′ W., and 107°30′ W

* * * * *

[FR Doc. 02-29810 Filed 11-27-02; 8:45 am]

BILLING CODE 6712-01-P